DEPARTMENT OF THE INTERIOR

Fish and Wildlife Service

50 CFR Part 17

RIN 1018-AI80

Endangered and Threatened Wildlife and Plants; Proposed Establishment of a Nonessential Experimental Population of Northern Aplomado Falcons in Southern New Mexico and Arizona

AGENCY: Fish and Wildlife Service, Interior.

ACTION: Proposed rule; reopening of public comment period, notice of public hearings, and notice of availability of draft monitoring plan.

SUMMARY: We, the U.S. Fish and Wildlife Service (Service), announce the reopening of the public comment period for the proposed rule to establish, under section 10(j) of the Endangered Species Act of 1973, as amended (Act), an experimental population of northern aplomado falcons (Falco femoralis septentrionalis) into their historic habitat in southern New Mexico and Arizona. We are providing this notice to allow all interested parties to comment on the proposed reintroduction and the draft environmental assessment (notice of which published in the Federal Register on February 9, 2005). We are also announcing the availability of a draft monitoring plan for the reintroduction of the northern aplomado falcon for public comment. We will hold two public hearings (see DATES and ADDRESSES sections).

Through this notice and the public hearings, we are seeking comments or suggestions from the public, other concerned governmental agencies, Tribes, the scientific community, industry, or any other interested parties concerning the proposed experimental population and draft monitoring plan.

DATES: Comments must be submitted directly to the Service (see ADDRESSES section) on or before November 15, 2005, or at any of the public hearings to be held in October 2005. Any comments received after the closing date may not be considered in the final determination on the proposal.

We will hold two public hearings at the following dates and times:

1. October 11, 2005: Las Cruces, NM. Informal question and answer session: 6 p.m. Public hearing: 7 p.m.-8:45 p.m.

2. October 13, 2005: Albuquerque, NM. Informal question and answer session: 6 p.m. Public hearing: 7 p.m.-8:45 p.m.

ADDRESSES:

Meetings

The public hearings will be held at the following locations:

1. Las Cruces, NM: Auditorium, Corbett Center Student Union, Jordan Street and University Avenue, New Mexico State University, Las Cruces, New Mexico 88003-8001. (505) 646-4804. Parking is located in Lot 27 off of Triviz and University Avenue.

2. Albuquerque, NM: Silver & Turquoise Room, Indian Pueblo Cultural Center, 2401 12th Street NW (1 block North of I-40), Albuquerque, New Mexico 87104. (505) 843-7270 or 1-800-766-4405.

Written information, comments, or questions related to preparation of the draft environmental assessment and the National Environmental Policy Act (NEPA) process should be submitted to Susan MacMullin, Field Supervisor, U.S. Fish and Wildlife Service, New Mexico Ecological Services Field Office, 2105 Osuna NE, Albuquerque, New Mexico 87113. Written comments may also be sent by facsimile to (505) 346-2542 or by e-mail to R2FWE_AL@fws.gov. For directions on how to submit electronic filing of comments, see the “Public Comments Solicited” section.

You may obtain copies of the proposed rule, draft environmental assessment, and draft monitoring plan from the above address, or by calling 505-346-2525. They are also available from our Web site at http://ifw2es.fws.gov/NewMexico/. All comments and materials received, as well as supporting documentation used in preparation of the proposed rule, will be available for public inspection, by appointment, during normal business hours at the New Mexico Ecological Services Field Office.

FOR FURTHER INFORMATION CONTACT: Questions regarding the development of the proposed rule designating an experimental population, the draft environmental assessment, or the draft monitoring plan may be directed to Susan MacMullin, Field Supervisor, New Mexico Ecological Services Field Office, telephone 505-346-2525 (see ADDRESSES). Persons who use a telecommunications device for the deaf (TDD) may call the Federal Information Relay Service (FIRS) at 1-800-877-8339, 24 hours a day, 7 days a week.

SUPPLEMENTARY INFORMATION:

Background

We previously proposed to reintroduce northern aplomado falcons into their historic habitat in southern New Mexico with the purpose of establishing a viable resident population (February 9, 2005, 70 FR 6819). If the proposed rule is finalized, we may release up to 150 captive-raised northern aplomado falcons annually in the summer and/or fall for 10 or more years, until a self-sustaining population is established. We propose to designate this reintroduced population as a nonessential experimental population, according to section 10(j) of the Endangered Species Act of 1973, as amended. The geographic boundary of the proposed nonessential experimental population includes all of New Mexico and Arizona. A draft environmental assessment was prepared for this proposed action and has been made available for comment (February 9, 2005, 70 FR 6819).

Pursuant to 50 CFR 424.16(c)(2), we may extend or reopen a comment period upon finding that there is good cause to do so. Our public hearing for this proposed rule was originally scheduled for Las Cruces, New Mexico, on March 15, 2005. However, this hearing had to be postponed because of widespread road closures on that date in northern and central New Mexico due to hazardous snow and ice conditions. In addition, we have now developed the draft monitoring plan for the proposed reintroduction of the northern aplomado falcon that was referred to in the proposed rule and draft environmental assessment (70 FR 6819). We announce the availability of this document and solicit data and comments from the public (please see ADDRESSES section). We also announce new public hearing dates concurrently with the availability of the draft monitoring plan. We deem these considerations as sufficient cause to reopen the comment period that closed on April 11, 2005 (70 FR 6819). For additional information on how to send comments, see “Public Comments Solicited” section.

Our proposal to reintroduce northern aplomado falcons in New Mexico and Arizona under section 10(j) of the Endangered Species Act requires the Service to periodically review and evaluate the reintroduction program. The monitoring plan will assist the Service in its evaluation of the release program described in the proposed rule and draft environmental assessment and will provide guidelines for northern aplomado falcon monitoring efforts in New Mexico and Arizona. Monitoring requirements and studies are described in two tiers. Tier 1 describes short-term monitoring, which includes basic monitoring requirements for newly released falcons and for nesting falcons beginning 3 years after their reintroduction. Tier 1 monitoring will primarily be the responsibility of The Peregrine Fund, who will submit annual reports to the Service on northern aplomado falcon release monitoring results in New Mexico and Arizona. In addition, the Bureau of Land Management and U.S. Army Fort Bliss will be responsible for remote-sensing habitat monitoring relevant to the reintroduction program in New Mexico and Arizona. Tier 2 investigations include nonmandatory monitoring efforts subject to available funding. Annual stakeholder meetings will be conducted to review project data to determine if refinements to the program are needed. We will use the best scientific and commercial data available, including, but not limited to, results from this monitoring plan and stakeholder meetings to prepare 5-year evaluations of the New Mexico and Arizona falcon restoration program.

Public Hearings

The Act provides for one or more public hearings on this proposed rule, if requested. We have been requested to conduct two public hearings in New Mexico. We will hold a public hearing in Las Cruces, New Mexico, on October 11, 2005, and one in Albuquerque, New Mexico, on October 13, 2005. Announcements for the public hearings will also be made in local newspapers.

Public hearings are designed to gather relevant information that the public may have that we should consider in our rulemaking. During the hearings, we will present information about the proposed action. We invite the public to submit information and comments at the hearings or in writing during the open public comment period. We encourage persons wishing to comment at the hearing to provide a written copy of their statement at the start of the hearing. This notice and the public hearings will allow all interested parties to submit comments on the proposed nonessential experimental population rule for the northern aplomado falcon. We are seeking comments from the public, other concerned governmental agencies, Tribes, the scientific community, industry, or any other interested parties concerning the proposal. Persons may send written comments to the New Mexico Ecological Services Field Office (see ADDRESSES section) at any time during the open comment period. We will give equal consideration to oral and written comments. For more information about commenting, see the “Public Comments Solicited” section.

Public Comments Solicited

We intend for our draft environmental assessment (EA) to consider reasonable alternatives for the establishment of an experimental population of the aplomado falcon. We also wish to ensure than any proposed rulemaking to establish an experimental population and the accompanying monitoring plan effectively evaluate all potential issues and impacts associated with this action. Therefore, we seek comment from Federal, State, local, or Tribal government agencies; the scientific or business community; landowners; or any other interested party. Comments should be as specific as possible.

In order to issue a final rule to implement this proposed action and to determine whether to prepare a finding of no significant impact or an environmental impact statement, we will take into consideration all comments and any additional information we receive. Such communications may lead to a final rule that differs from this proposal. All comments, including names and addresses, will become part of the supporting record.

If you wish to provide comments and/or information, you may submit your comments and materials by any one of several methods (see ADDRESSES). Comments submitted electronically should be in the body of the e-mail message itself or attached as a text file (ASCII), and should not use special characters or encryption. Please also include “Attn: Falcon Proposed 10(j) Rule,” your full name, and your return address in your e-mail message. If you do not receive a confirmation from the system that we have received your e-mail message, contact us directly by calling our New Mexico Ecological Services Field Office (see ADDRESSES section).

Our practice is to make comments, including names and home addresses of respondents, available for public review during regular business hours. Respondents may request that we withhold their home addresses, which we will honor to the extent allowable by law. There may also be circumstances in which we would withhold a respondent's identity, as allowable by law. If you wish for us to withhold your name and/or address, you must state this request prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours at New Mexico Ecological Services Office in Albuquerque, New Mexico (see ADDRESSES).

Paperwork Reduction Act

Office of Management and Budget (OMB) regulations at 5 CFR part 1320, which implement provisions of the Paperwork Reduction Act (44 U.S.C. 3501 et seq.) require that Federal agencies obtain approval from OMB before collecting information from the public. A Federal agency may not conduct or sponsor and a person is not required to respond to a collection of information unless it displays a currently valid OMB control number. OMB approval is required if information will be collected from 10 or more persons (5 CFR 1320.3). “Ten or more persons” refers to the persons to whom a collection of information is addressed by the agency within any 12-month period, and to any independent entities to which the initial addressee may reasonably be expected to transmit the collection of information during that period, including independent State, territorial, Tribal or local entities and separately incorporated subsidiaries or affiliates. For the purposes of this definition, “persons” does not include employees of the respondent acting within the scope of their employment, contractors engaged by a respondent for the purpose of complying with the collection of information, or current employees of the Federal government when acting within the scope of their employment, but it does include former Federal employees. The draft monitoring plan for reestablishment of the falcon contains a requirement for information collection; however, it does not affect 10 or more persons. Therefore, OMB approval and a control number are not needed for the data collection forms appended to the monitoring plan. In the future, if it becomes necessary to collect this information from 10 or more respondents per year, we will first obtain approval from OMB.

Authority

The authority for this action is the Endangered Species Act of 1973 (16 U.S.C. 1531 et seq.).

Dated: September 1, 2005.
Craig Manson,
Assistant Secretary for Fish and Wildlife and Parks.

[FR Doc. 05-18386 Filed 9-15-05; 8:45 am]

BILLING CODE 4310-55-P